DEPARTMENT OF DEFENSE

Department of the Army

Publication of Revision and Consolidation of Military Freight Traffic Rules Publications (MFTRP) 1C-R (Motor), 10 (Rail), 30 (Barge), 6A (Pipeline), 4A (Tank Truck), Military Standard Tender Instruction Publication (MSTIP) 364D, SpotBid Business Rules, and SDDC Military Class Rate Publication No. 100A to a Consolidation of Procurement Requirements for the Purchase of Commercial Transportation Services into the Military Freight Traffic Unified Rules Publication (MFTURP) No. 1

AGENCY: Department of the Army, DOD.

SUMMARY: The Military Surface Deployment and Distribution Command (SDDC) is providing notice that it intends to publish its consolidated procurement requirements of commercial transportation services publication, the MFTURP No. 1, which governs the purchase of surface freight transportation in the Continental United States (CONUS) by DOD using Federal Acquisition Regulation (FAR) exempt transportation service contracts.

The purpose for this new procurement procedure is to streamline the transportation requirements to reflect the current needs of the DOD. SDDC will accept comments—geared towards strengthening the DOD's procurement contracts for commercial transportation—to be utilized during quarterly updates of this publication.

DATES: Comments must be received by April 27, 2009.

ADDRESSES: Submit comments to Publication and Rules Manager, Strategic Business Directorate, Business Services, 661 Sheppard Place, ATTN: SDDC-OPM, Fort Eustis, VA 23604-1644. Request for additional information may be sent by e-mail to: dora.elias1@us.army.mil.

FOR FURTHER INFORMATION CONTACT: Ms. Dora J. Elias, (757) 878-5379.

SUPPLEMENTARY INFORMATION:

Reference: Military Freight Traffic Rules Publications (MFTRP) 1C-R (Motor), 10 (Rail), 30 (Barge), 6A (Pipeline), 4A (Tank Truck), Military Standard Tender Instruction Publication (MSTIP) 364D, SpotBid Business Rules, and SDDC Military Class Rate Publication No. 100A.

Background: SDDC's various rules publications have gone through many revisions and updates since its inception. With various subject matter owners within SDDC being responsible for the publication, attempts to update the publications proved cumbersome. To make the update and revision process more efficient, SDDC has consolidated its rules publications into one document that is applicable to all surface modes. This also places the responsibility of maintaining the publication with one Publications Team.

The current procurement procedures were developed during a period of extensive economic regulation of the various transportation modes. The purpose behind the consolidation, revision, and change to these various modal procurement documents was to ensure the procurement procedures reflect the current transportation needs of the DOD as well as the state of the commercial transportation industry. It also streamlines documentation and procedures, as well as standardizes procurement terms as much as possible between the various transportation modes.

Miscellaneous:

• This publication, as well as the other SDDC publications, can be accessed via the SDDC Web site at: http://www.sddc.army.mil/Public/Global%20Cargo%20Distribution/Domestic/Publications/.

• Submit comments, in writing, to SDDC via e-mail at dora.elias1@us.army.mil or mail to Publication and Rules Manager, Business Services, Strategic Business Directorate (see ADDRESSES).

• Deadline for comments is April 27, 2009.

C.E. Radford, III,
Division Chief, G9, Strategic Business Directorate.

[FR Doc. E9-6866 Filed 3-26-09; 8:45 am]

BILLING CODE 3710-08-P